NUCLEAR REGULATORY COMMISSION

Advisory Committee on Nuclear Waste; Notice of Meeting

The Advisory Committee on Nuclear Waste (ACNW) will hold its 175th meeting on December 12-14, 2006, Room T-2B3, 11545 Rockville Pike, Rockville, Maryland.

The schedule for this meeting is as follows:

Tuesday, December 12, 2006

10 a.m.-10:05 a.m.: Opening Remarks by the ACNW Chairman (Open)—The ACNW Chairman, Dr. Michael Ryan, will make opening remarks regarding the conduct of today's sessions.

10:05 a.m.-11:30 a.m.: Semi-Annual Briefings by the Office of Nuclear Material Safety and Safeguards (NMSS) (Open)—The Committee will be briefed by the NMSS Office and Division Directors on recent and future activities of interest within their respective programs.

1 p.m.-2:30 p.m.: RACER: Tools and a Process to Guide Decisions about Risk Reduction for Contaminants in the Environment (Open)—Dr. John Till from the Risk Assessment Corporation will brief the Committee on a methodology (RACER) used for guiding decisions on remediating contaminated sites.

2:45 p.m.-4:15 p.m.: Nuclear Energy Institute (NEI) and Electric Power Research Institute (EPRI) Views on NRC Interim Staff Guidance (ISG) DHLWRS-ISG-01 on Seismic Event Sequences (Open)—Representatives from NEI and EPRI will brief the Committee on their organizations' respective views on the “Review Methodology for Seismically Initiated Event Sequences.” This ISG is intended to supplement the existing Yucca Mountain Review Plan to be used to review any U.S. Department of Energy License Application for the proposed geologic repository.

4:15 p.m.-5:30 p.m.: Discussion of Draft ACNW Letter Reports (Open)—The Committee will discuss proposed ACNW letters.

Wednesday, December 13, 2006

8:30 a.m.—8:35 a.m.: Opening Remarks by the ACNW Chairman (Open)—The Chairman will make opening remarks regarding the conduct of today's sessions.

8:35 a.m.-9:30 a.m.: Proposed Revision to Standard Review Plan Chapter 11.2, “Liquid Waste Management System” (Open)—A representative from the NRC Staff will brief the Committee on the proposed revisions to NUREG-0800, “Standard Review Plan for the Review of Safety Analysis Reports for Nuclear Power Plants,” Chapter 11.2, “LIQUID WASTE MANAGEMENT SYSTEM,” in support of new power reactor licensing.

9:30 a.m.-10:30 a.m.: Public Comments on NRC 2006 Low-Level Radioactive Waste (LLW) Strategic Planning Initiative (Open)—An NRC staff representative will brief the Committee on the public comments received in response to the staff's ongoing LLW strategic assessment described in the Federal Register in July 2006 (71 FR 38675).

10:45 a.m.-12 p.m: Conceptual Licensing Process for Global Nuclear Energy Partnership (GNEP) Facilities (Open)—NMSS representatives will brief the Committee on their conceptual approach to licensing future GNEP facilities.

1 p.m.-2:30 p.m.: Generic Safety Issue 196: Boral Degradation (Open)—An ACNW staff member will provide the Committee with background information related to the use of Boral for both storage and transportation of spent nuclear fuel as well as conditions under which this material has shown degradation issues. Representatives from the Office of Nuclear Regulatory Research (RES) will brief the Committee with their reasons for removing Boral degradation from the Generic Safety Issue list.

3:45 p.m.-5:30 p.m.: Discussion of Draft ACNW Letter Reports (Open)—The Committee will discuss proposed ACNW letters.

Thursday, December 14, 2006

9:30 a.m.-11:30 a.m.: ACNW December 2006 Briefing to the Commission (Open)—ACNW members will brief the Commission on their recent and planned activities. The last Commission briefing was held on January 11, 2006.

3:30 p.m.-5 p.m.: Discussion of Draft ACNW Letter Reports (Open)—The Committee will discuss potential and proposed ACNW letter reports.

5 p.m.-5:30 p.m.: Miscellaneous (Open)—The Committee will discuss matters related to the conduct of ACNW activities and specific issues that were not completed during previous meetings, as time and availability of information permit. Discussions may include future Committee Meetings.

Procedures for the conduct of and participation in ACNW meetings were published in the Federal Register on October 12, 2006 (71 FR 60196). In accordance with these procedures, oral or written statements may be presented by members of the public. Electronic recordings will be permitted only during those portions of the meeting that are open to the public. Persons desiring to make oral statements should notify Mr. Antonio F. Dias (Telephone 301-415-6805), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Dias as to their particular needs.

Further information regarding topics to be discussed, whether the meeting has been canceled or rescheduled, the Chairman's ruling on requests for the opportunity to present oral statements and the time allotted, therefore can be obtained by contacting Mr. Dias.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: November 30, 2006.
Andrew L. Bates,
Advisory Committee Management Officer.

[FR Doc. E6-20536 Filed 12-5-06; 8:45 am]

BILLING CODE 7590-01-P